Title 3—

The President

Memorandum of October 29, 2018

Delegation of Authority Under Section 1244 of the National Defense Authorization Act for Fiscal Year 2019

Memorandum for the Secretary of State[,] the Secretary of the Treasury[,] the Secretary of Defense[,] the Secretary of Commerce[, and] the Director of National Intelligence

By the authority vested in me as President by the Constitution and the laws of the United States of America, including section 301 of title 3, United States Code, I hereby delegate to the Secretary of State, in coordination with the Secretary of the Treasury, the Secretary of Defense, the Secretary of Commerce, and the Director of National Intelligence, the authority to submit to the Congress the certification required by section 1244 of the National Defense Authorization Act for Fiscal Year 2019 (Public Law 115-232).

The delegation in this memorandum shall apply to any provision of any future public law that is the same or substantially the same as the provision referenced in this memorandum.

The Secretary of State is authorized and directed to publish this memorandum in the Federal Register.

THE WHITE HOUSE,

Washington, October 29, 2018

[FR Doc. 2018-24897

Filed 11-9-18; 11:15 am]

Billing code 4710-10-P